DEPARTMENT OF COMMERCE

National Oceanic and Atmospheric Administration

50 CFR Part 679

[Docket No. 991228352-0012-02; I.D. 032700E]

Fisheries of the Exclusive Economic Zone Off Alaska; Opens Directed Fishing for Several Groundfish Species in the Central Regulatory Area in the Gulf of Alaska

AGENCY: National Marine Fisheries Service (NMFS), National Oceanic and Atmospheric Administration (NOAA), Commerce.

ACTION: Modification of a closure.

SUMMARY: NMFS is opening directed fishing for flathead sole, shallow water flatfish, arrowtooth flounder, and deep water flatfish by catcher vessels that are non-exempt under the American Fisheries Act (AFA) in the Central Regulatory Area of the Gulf of Alaska (GOA). This action is necessary to allow non-exempt catcher vessels to participate in these fisheries consistent with regulations implementing the AFA.

DATES: Effective 1200 hrs, Alaska local time (A.l.t.), March 28, 2000.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The amount of the 2000 GOA AFA catcher vessel sideboards in the Central Regulatory Area was established by the Emergency Interim Rule to Implement Major Provisions of the American Fisheries Act (65 FR 4520, January 28, 2000) in accordance with § 679.20(c)(2)(i) as follows: For flathead sole, 49 metric tons (mt), shallow water flatfish, 544 mt, arrowtooth flounder, 515 mt and deep water flatfish, 168 mt.

The Administrator, Alaska Region, NMFS (Regional Administrator), has established, in accordance with § 679.20(d)(iv), a directed fishing allowance for these fisheries as follows: For flathead sole, 40 mt, shallow water flatfish, 500 mt, arrowtooth flounder, 500 mt and deep water flatfish, 150 mt, and set aside the remaining amounts as bycatch to support other anticipated fishing activity by the non-exempt catcher vessels in the Central Regulatory Area. This area of the GOA was closed to directed fishing for Pacific cod by non-exempt AFA vessels on January 21, 2000 (65 FR 4520, January 28, 2000).

NMFS has determined that as of March 23, 2000, sufficient amounts remain in the directed fishing allowances for these species and species groups in the Central Regulatory Area to sustain a directed fishery. Therefore, NMFS is terminating the previous closure and is opening directed fishing for flathead sole, shallow water flatfish, arrowtooth flounder, and deep water flatfish by catcher vessels that are non-exempt under the AFA in the Central Regulatory Area of the GOA.

Classification

All other closures remain in full force and effect. This action responds to the best available information recently obtained from the fishery. It must be implemented immediately in order to allow participation of catcher vessels that are non-exempt under the AFA. Providing prior notice and opportunity for public comment for this action is impracticable and contrary to the public interest. NMFS finds for good cause that the implementation of this action cannot be delayed for 30 days. Accordingly, under 5 U.S.C. 553(d), a delay in the effective date is hereby waived.

This action is required by § 679.20 and is exempt from review under E.O. 12866.

Authority: 16 U.S.C. 1801 et seq.

Dated: March 28, 2000.
Gary C. Matlock,
Director, Office of Sustainable Fisheries, National Marine Fisheries Service.

[FR Doc. 00-7989 Filed 3-28-00; 3:53 pm]

BILLING CODE 3510-22-F